DEPARTMENT OF ENERGY

Federal Energy Regulatory Commission

[Docket No. RP00-262-000]

Florida Gas Transmission Company; Notice of Proposed Changes in FERC Gas Tariff

May 4, 2000.

Take notice that on May 1, 2000, Florida Gas Transmission Company (FGT) tendered for filing to become part of its FERC Gas Tariff, Third Revised Volume No. 1, the following tariff sheets, with an effective March 27, 2000.

Fourth Revised Sheet No. 164

Fourth Revised Sheet No. 165

Second Revised Sheet No. 168A

Seventh Revised Sheet No. 169

First Revised Sheet No. 185

FGT states that on February 9, 2000, the Federal Energy Regulatory Commission (Commission) issued its final rule regarding the regulation of short-term interstate natural gas transportation services in Docket Nos. RM 98-10-000 and RM98-12-000 (Order No. 637). In the instant filing, FGT is filing to implement provisions of Order No. 637 regarding the waiver of the rate ceiling for short-term capacity release transactions and the prospective limitations on the availability of the Right-of-First Refusal (“ROFR”).

FGT states that Order No. 637 provides for a waiver of the rate ceiling for short-term (less than one year) capacity release transactions until September 30, 2002 and requires pipelines to file tariff revisions within 180 days of the effective date of the rule, i.e., March 27, 2000, to remove tariff provisions which are inconsistent with the removal of the rate ceiling. Accordingly, FGT is filing revised tariff sheets as required. Unless extended by Commission action the tariff provisions removing the price cap submitted herein shall not be effective after September 30, 2002, and FGT shall file revised tariff sheets as required.

FGT also states that it is filing revised tariff sheets implementing portions of Order No. 637 which provide that the Right-of-Refusal be applicable only to contracts at the maximum tariff rate having a term of twelve consecutive months or longer of service.

Any person desiring to be heard or to protest said filing should file a motion to intervene or a protest with the Federal Energy Regulatory Commission, 888 First Street, N.E., Washington, D.C. 20426, in accordance with Section s 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11619 Filed 5-9-00; 8:45 am]

BILLING CODE 6717-01-M